DEPARTMENT OF THE INTERIOR

National Park Service

Draft Environmental Impact Statement/General Management Plan, Lassen Volcanic National Park, Lassen, Plumas, Shasta and Tehama Counties, California; Notice of Availability

SUMMARY: Pursuant to § 102(2)(C) of the National Environmental Policy Act of 1969 (P.L. 91-190 as amended), the National Park Service, Department of the Interior, has prepared a draft environmental impact statement assessing the potential impacts of the proposed General Management Plan for Lassen Volcanic National Park, located in northeastern California. The park currently contains approximately 79,000 acres of designated Wilderness. The subject document identifies and analyzes four alternatives (and appropriate mitigation strategies) for the management and use of Lassen Volcanic National Park over the next 15 years.

Proposed Plan and Alternatives: The draft environmental impact statement includes three “action” alternatives and one “no action” (existing conditions) alternative.

Alternative A: No Action, assumes that physical facilities would remain largely unchanged and that staffing and operational funding would remain relatively constant over the planning period.

Alternative B: Resource Preservation and Basic Visitor Service, provides a program for preserving, and where necessary, restoring significant park resources. It includes significant staffing and funding increases for the park's resource management functions, restores key elements of the park's infrastructure, provides for restoration of several specific sites having natural system conflicts, establishes a standards-based management zoning system, and proposes designation of approximately 25,000 additional acres as part of the National Wilderness Preservation System. The plan also includes program increases and visitor facility improvements to provide for quality basic visitor service.

Alternative C: Resource Protection and Enhanced Visitor Experience. This alternative is the proposed General Management Plan for Lassen Volcanic National Park It includes all the features of Alternative B, and provides enhancement to visitor experience by making more facilities available during winter months, and increasing interpretive services, facilities, and information.

Alternative D: Resource Protection and Expanded Visitor Opportunities, includes all of the features of Alternative C and, in addition, provides for expansion of family and group campgrounds at several locations. It also expands winter access at the north entrance by plowing the park road an additional 9 miles to the Devastated Area, and keeping one loop of the campground open for winter camping.

Significant adverse environmental impacts would be expected to result from Alternative A as a number of environmental resources are undergoing deterioration under current conditions. All of the action alternatives include programs to arrest the deterioration of resources and mitigation features to avoid or reduce impacts from implementation of project features.

Comments: Persons wishing to provide information or express any concerns about management issues and future land management direction are encouraged to comment. All responses must be postmarked not later than October 31, 2000, and these letters should be addressed to the Superintendent, Lassen Volcanic National Park, P.O. Box 100, Mineral, California 96063-0100. Questions regarding the proposed plan or public meetings should be directed to the Superintendent either by mail in care of the above address, or else by telephone at (530) 595-4444.

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

SUPPLEMENTARY INFORMATION: Seven public meetings will be held in communities in the vicinity of the park. Dates and locations are shown below. All meetings with one exception will be held from 7-8:30 pm (a morning meeting will be held 10-12 am on September 9).

August 29—Redding Community Center, 777 Cypress Avenue, Redding.

August 30—Red Bluff Community/Senior Center, 1500 South Jackson St., Red Bluff.

August 31—City Council Chamber, 421 Main Street, Chico.

September 5—Chester Memorial Hall, 225 Gay Street, Chester.

September 6—Veteran's Memorial Building, 1205 Main Street, Susanville.

September 7—Shingletown Fire Hall, 1 mile east of Shingletown on Highway 44.

September 9—Mineral School, 38355 Scenic Avenue, Mineral.

Decision: The official responsible for the final decision is Regional Director, Pacific West Region; subsequently the official who will be responsible for implementation will be the Superintendent, Lassen Volcanic National Park.

Dated: August 11, 2000.
William C. Walters,
Deputy Regional Director, Pacific West.

[FR Doc. 00-21086 Filed 8-17-00; 8:45 am]

BILLING CODE 4310-70-P